DEPARTMENT OF HEALTH AND HUMAN SERVICES

Health Care Financing Administration

[Document Identifier: HCFA-R-264A-H, HCFA-684A-I, and HCFA-685]

Agency Information Collection Activities: Submission for OMB Review; Comment Request

In compliance with the requirement of section 3506(c)(2)(A) of the Paperwork Reduction Act of 1995, the Health Care Financing Administration (HCFA), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden;

(3) ways to enhance the quality, utility, and clarity of the information to be collected; and (4) the use of automated collection techniques or other forms of information technology to minimize the information collection burden.

(1) Type of Information Collection Request: Revision of a currently approved collection;

Title of Information Collection: Medicare DMEPOS Competitive Bidding Demonstration;

Form No.: HCFA-R-264 A-H (OMB# 0938-0748);

Use: Section 1847 of the Social Security Act, as added by Section 4319 of the Balanced Budget Act (BBA), mandates HCFA to implement demonstration projects under which competitive acquisition areas are established for contract award purposes for the furnishing of Part B items and services, except for physician's services. The demonstration currently operating in Polk County, Florida and the demonstration planned for San Antonio, Texas involve competitive bidding of categories of durable medical equipment, prosthetics, orthotics, and supplies (DMEPOS). The new set of products to be offered for competitive bidding in San Antonio are: Oxygen equipment and supplies, hospital beds, non-customized orthotic devices, manual wheelchairs and accessories, and nebulizer inhalation drugs. Under the law, suppliers can receive payments from Medicare for items and services covered by the demonstration only if their bids are competitive in terms of quality and price. Each demonstration project may be conducted in up to three metropolitan areas for a three year period. Authority for the demonstration expires on December 31, 2002.

There are eight forms that are required for this demonstration. Form A will be used by the bidding supplier to provide information about the characteristics of the company. Form B will be used by the bidding supplier to provide specific information about the prices it bids for specific product categories, and to provide information about the attributes of the supplier in relation to the specific product category. Form C will be used by HCFA or its agents to obtain information on site regarding the bidding supplier. Form D will be used by HCFA or its agents to obtain financial references on the bidding supplier from banks and other financial sources. Form E will be used by HCFA or its agents to obtain information about the bidding suppliers from referral sources such as home health agencies and hospital discharge planners. Form F will be used to obtain information about the suppliers' financial status and to assure that they have sufficient fiscal resources to operate in a competitive environment where the prices being paid for some products are less than what have been customarily paid. It is required only from suppliers whose bids are in the competitive range. Form G will be used for nursing homes to identify their suppliers of products and services who have not been awarded Demonstration Supplier status for services to beneficiaries in their home. This is to permit payment to those suppliers for products and services furnished to nursing homes. Form H will be used to monitor the performance of Demonstration Suppliers to assure their adherence to the quality standards established for the project.

The competitive bidding demonstration for DMEPOS has the following objectives:

• Test the policies and implementation methods of competitive bidding to determine whether or not it should be expanded as a Medicare Program.

• Reduce the price that Medicare pays for medical equipment and supplies.

• Limit beneficiary out-of-pocket expenditures for copayments.

• Assure beneficiary access to high quality medical equipment and supplies.

• Prevent business transactions with suppliers who engage in fraudulent practices.

Frequency: On occasion;

Affected Public: Business or other for-profit, and not-for-profit institutions;

Number of Respondents: 5,100;

Total Annual Responses: 1,700;

Total Annual Hours: 12,420.

(2) Type of Information Collection Request: Revision of a currently approved collection;

Title of Information Collection: End-Stage Renal Disease (ESRD) Network Business Proposal Forms and Supporting Regulations in 42 CFR 405.2110 and 405.2112;

Form No.: HCFA-684A-I (OMB# 0938-0658);

Use: The submission of business proposal information by current ESRD networks and other bidders, according to the business proposal instructions, meets HCFA's need for meaningful, consistent, and verifiable data when evaluating contract proposals;

Frequency: Other: Every 3 years;

Affected Public: Not-for-profit institutions;

Number of Respondents: 18;

Total Annual Responses: 36;

Total Annual Hours: 1,080.

(3) Type of Information Collection Request: Extension of a currently approved collection;

Title of Information Collection: End-Stage Renal Disease (ESRD) Network Semi-Annual Cost Report Forms and Supporting Regulations in 42 CFR 405.2110 and 405.2112;

Form No.: HCFA-685 (OMB# 0938-0657);

Use: Submission of semi-annual cost reports allow HCFA to review, compare, and project ESRD network costs. The reports are used as an early warning system to determine whether the networks are in danger of exceeding the total cost of the contract. Additionally, HCFA can analyze line item costs to identify any significant aberrations;

Frequency: Semi-annually;

Affected Public: Not-for-profit institutions;

Number of Respondents: 18;

Total Annual Responses: 36;

Total Annual Hours: 108.

To obtain copies of the supporting statement for the proposed paperwork collections referenced above, access HCFA's Web Site Address at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, D.C. 20503.

Dated: September 20, 2000.
John P. Burke III,
HCFA Reports Clearance Officer, HCFA, Office of Information Services, Security and Standards Group, Division of HCFA Enterprise Standards.

[FR Doc. 00-25578 Filed 10-4-00; 8:45 am]

BILLING CODE 4120-03-P